SECURITIES AND EXCHANGE COMMISSION

Sunshine Act Meeting

Federal Register Citation of Previous Announcement: [72 FR 33545, June 18, 2007].

Status: Open meeting.

Place: 100 F Street, NE., Auditorium, LL-002, Washington, DC.

Date and Time of Previously Announced Meeting: Wednesday, June 20, 2007.

Change in the Meeting: Additional Item.

The following matter will also be considered during the 10 a.m. Open Meeting scheduled for Wednesday, June 20, 2007:

The Commission will consider whether to adopt amendments to Rule 105 of Regulation M that would further safeguard the integrity of the capital raising process and protect issuers from manipulative activity that can reduce issuers' offering proceeds and dilute security holder value.

Commissioner Atkins, as duty officer, determined that no earlier notice thereof was possible.

At times, changes in Commission priorities require alterations in the scheduling of meeting items. For further information and to ascertain what, if any, matters have been added, deleted or postponed, please contact the Office of the Secretary at (202) 551-5400.

Dated: June 19, 2007.
Nancy M. Morris,
Secretary.

[FR Doc. E7-12152 Filed 6-21-07; 8:45 am]

BILLING CODE 8010-01-P